ENVIRONMENTAL PROTECTION AGENCY

[FRL-9946-03-OECA]

Proposed Information Collection Request; Comment Request

AGENCY: Environmental Protection Agency (EPA).

ACTION: Notice.

SUMMARY: The Environmental Protection Agency is planning to submit the below listed information collection requests (ICR) (See item specific ICR title, EPA ICR Number and OMB Control Number provided in the text) to the Office of Management and Budget (OMB) for review and approval in accordance with the Paperwork Reduction Act (44 U.S.C. 3501 et seq.). Before doing so, EPA is soliciting public comments on specific aspects of the proposed information collection as described below. These are proposed extensions of the currently approved ICRs. An Agency may not conduct or sponsor and a person is not required to respond to a collection of information unless it displays a currently valid OMB control number.

DATES: Comments must be submitted on or before July 5, 2016.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For all the listed ICRs in this notice, owners and operators of affected facilities are required to comply with reporting and record keeping requirements for the general provisions of 40 CFR part 60, subpart A or Part 63, Subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OECA-2013-0336; Title: NESHAP for Off-Site Waste and Recovery Operations (40 CFR part 63, subpart DD); EPA ICR Number 1717.10, OMB Control Number 2060-0313; Expiration Date: October 31, 2016.

Respondents: Waste management and recovery facilities.

Respondent's obligation to respond: Mandatory (40 CFR part 63, subpart DD).

Estimated number of respondents: 236 (total).

Frequency of response: Initially, occasionally and semiannually.

Estimated annual burden: 179,000 hours.

Estimated annual cost: $17,500,000, includes $5,810 annualized capital or operation & maintenance (O&M) costs.

Changes in Estimates: There is no change in burden hours from the previous ICR.

(2) Docket ID Number: EPA-HQ-OECA-2012-0679; Title: NESHAP for Petroleum Refineries: Catalytic Cracking Units, Reforming and Sulfur Units (40 CFR part 63, subpart UUU); EPA ICR Number 1844.07, OMB Control Number 2060-0554; Expiration Date: October 31, 2016.

Respondents: Petroleum refineries with catalytic cracking units, catalytic reforming units and/or sulfur recovery units.

Respondent's obligation to respond: Mandatory (40 CFR part 63, subpart UUU).

Estimated number of respondents: 123 (total).

Frequency of response: Initially, occasionally, and semiannually.

Estimated annual burden: 10,200 hours.

Estimated annual cost: $9,400,000, includes $8,400,000 annualized capital or O&M costs.

Changes in Estimates: There is an expected increase in burden hours due to expected modification of existing facilities.

(3) Docket ID Number: EPA-HQ-OECA-2013-0338; Title: NESHAP for the Manufacture of Amino/Phenolic Resins (40 CFR part 63, subpart OOO); EPA ICR Number 1869.08, OMB Control Number 2060-0434; Expiration Date: October 31, 2016.

Respondents: Facilities that manufacture amino/phenolic resins.

Respondent's obligation to respond: Mandatory (40 CFR part 63, subpart OOO).

Estimated number of respondents: 37 (total).

Frequency of response: Initially, occasionally, and semiannually.

Estimated annual burden: 22,400 hours.

Estimated annual cost: $2,200,000, includes $14,800 annualized capital or O&M costs.

Changes in Estimates: There is no change in burden hours from the previous ICR.

(4) Docket ID Number: EPA-HQ-OECA-2013-0341; Title: NESHAP for Plywood and Composite Products (40 CFR parts 63, Subpart DDDD); EPA ICR Number 1984.06, OMB Control Number 2060-0552; Expiration Date: October 31, 2016.

Respondents: Plywood and composite wood products (PCWP) facilities.

Respondent's obligation to respond: Mandatory (40 CFR part 63, subpart DDDD).

Estimated number of respondents: 228 (total).

Frequency of response: Initially, occasionally, and semiannually.

Estimated annual burden: 11,700 hours.

Estimated annual cost: $1,160,000, includes $16,000 annualized capital or O&M costs.

Changes in Estimates: There is no change in burden hours from the previous ICR.

(5) Docket ID Number: EPA-HQ-OECA-2013-0318; Title: NSPS for Magnetic Tape Coating Facilities (40 CFR part 60, subpart SSS); EPA ICR Number 1135.12, OMB Control Number 2060-0171; Expiration Date: November 30, 2016.

Respondents: Magnetic tape coating facilities constructed or modified after January 22, 1986.

Respondent's obligation to respond: Mandatory (40 CFR part 60, subpart SSS).

Estimated number of respondents: 6 (total).

Frequency of response: Initially, occasionally and semiannually.

Estimated annual burden: 2,020 hours.

Estimated annual cost: $283,000, includes $86,400 annualized capital or O&M costs.

Changes in Estimates: There is no change in burden hours from the previous ICR.

(6) Docket ID Number: EPA-HQ-OECA-2013-0334; Title: NSPS for Secondary Brass and Bronze Production, Primary Copper Smelters, Primary Zinc Smelters, Primary Lead Smelters, Primary Aluminum Reduction Plants, and Ferroalloy Production Facilities (40 CFR part 60, subparts M, P, Q, R, S, Z); EPA ICR Number 1604.11, OMB Control Number 2060-0110; Expiration Date: November 30, 2016.

Respondents: Secondary brass or bronze production facilities; primary copper, primary zinc, and primary lead facilities; primary aluminum reduction facilities; and ferroalloy production facilities.

Respondent's obligation to respond: Mandatory (40 CFR part 60, subparts M, P, Q, R, S, and Z).

Estimated number of respondents: 19 (total).

Frequency of response: Initially, occasionally, semiannually, and annually.

Estimated annual burden: 4,960 hours.

Estimated annual cost: $612,000 includes $127,000 annualized capital or O&M costs.

Changes in Estimates: There is no change in burden hours from the previous ICR.

(7) Docket ID Number: EPA-HQ-OECA-2013-0339; Title: NESHAP for Boat Manufacturing (40 CFR part 63, subpart VVVV); EPA ICR Number 1966.06, OMB Control Number 2060-0546; Expiration Date: November 30, 2016.

Respondents: Boat manufacturing facilities.

Respondent's obligation to respond: Mandatory (40 CFR part 63, subpart VVVV);

Estimated number of respondents: 144 (total).

Frequency of response: Initially, occasionally, and semiannually.

Estimated annual burden: 23,500 hours.

Estimated annual cost: $2,300,000, includes $800 annualized capital or O&M costs.

Changes in Estimates: There is no change in burden hours from the previous ICR.

(8) Docket ID Number: EPA-HQ-OECA-2013-0345; Title: NESHAP for Metal Can Manufacturing Surface Coating (40 CFR part 63, subpart KKKK); EPA ICR Number 2079.06, OMB Control Number 2060-0541; Expiration Date: November 30, 2016.

Respondents: Metal can manufacturing facilities that use 1,500 gallons or more of surface coatings.

Respondent's obligation to respond: Mandatory (40 CFR part 63, subpart KKKK).

Estimated number of respondents: 5 (total).

Frequency of response: Initially, occasionally and semiannually.

Estimated annual burden: 1,940 hours.

Estimated annual cost: $196,000, includes $6,000 annualized capital or O&M costs.

Changes in Estimates: There is no change in burden hours from the previous ICR.

(9) Docket ID Number: EPA-HQ-OECA-2013-0313; Title: NSPS for Stationary Gas Turbines (40 CFR part 60, subpart GG); EPA ICR Number 1071.12, OMB Control Number 2060-0028; Expiration Date: December 31, 2016.

Respondents: Stationary gas turbines.

Respondent's obligation to respond: Mandatory (40 CFR part 60, subpart GG).

Estimated number of respondents: 535 (total).

Frequency of response: Initially and semiannually.

Estimated annual burden: 68,400 hours.

Estimated annual cost: $6,700,000, includes $0 annualized capital or O&M costs.

Changes in Estimates: There is no change in burden hours from the previous ICR.

(10) Docket ID Number: EPA-HQ-OECA-2013-0333; Title: Standards of Performance for Air Emission Standards for Tanks, Surface Impoundments and Containers (40 CFR part 264, subpart CC and 40 CFR part 265, subpart CC); EPA ICR Number 1593.10, OMB Control Number 2060-0318; Expiration Date: December 31, 2016.

Respondents: Facilities that treat, store, or dispose of hazardous wastes in tanks, surface impoundments, and containers.

Respondent's obligation to respond: Mandatory (40 CFR part 264, subpart CC and 40 CFR part 265, subpart CC).

Estimated number of respondents: 6,200 (total).

Frequency of response: Occasionally.

Estimated annual burden: 712,000 hours.

Estimated annual cost: $82,100,000, includes $12,400,000 annualized capital or O&M costs.

Changes in Estimates: There is no change in burden hours from the previous ICR.

(11) Docket ID Number: EPA-HQ-OECA-2013-0335; Title: NESHAP for Aerospace Manufacturing and Rework Facilities (40 CFR part 63, subpart GG); EPA ICR Number 1687.10, OMB Control Number 2060-0314; Expiration Date: December 31, 2016.

Respondents: Aerospace manufacturing and rework facilities.

Respondent's obligation to respond: Mandatory (40 CFR part 63, subpart GG).

Estimated number of respondents: 136 (total).

Frequency of response: Initially, occasionally, and semiannually.

Estimated annual burden: 141,000 hours.

Estimated annual cost: $13,900,000, includes $136,000 annualized capital or O&M costs.

Changes in Estimates: There is no change in burden hours from the previous ICR.

(12) Docket ID Number: EPA-HQ-OECA-2013-0340; Title: NESHAP for Stationary Reciprocating Internal Combustion Engines (40 CFR part 63, subpart ZZZZ); EPA ICR Number 1975.10, OMB Control Number 2060-0548; Expiration Date: December 31, 2016.

Respondents: Stationary reciprocating internal combustion engines.

Respondent's obligation to respond: Mandatory (40 CFR part 63, subpart ZZZZ).

Estimated number of respondents: 903,000 (total).

Frequency of response: Initially, occasionally, semiannually, and annually.

Estimated annual burden: 3,430,000 hours.

Estimated annual cost: $425,000,000, includes $27,900,000 annualized capital or O&M costs.

Changes in Estimates: There is an expected increase in burden hours due to an increase in the respondent universe.

(13) Docket ID Number: EPA-HQ-OECA-2013-0346; Title: NESHAP for Acrylic/Modacrylic Fibers Prod., Carbon Black Prod., Chemical Mfg: Chromium Compounds, Flexible Polyurethane Foam Production/Fabrication, Lead Acid Battery Mfg, Wood Preserving (40 CFR part 63, subparts LLLLLL, MMMMMM, NNNNNN, OOOOOO, PPPPPP, and QQQQQQ); EPA ICR Number 2256.05, OMB Control Number 2060-0598; Expiration Date: December 31, 2016.

Respondents: Acrylic or modacrylic fibers production plants, carbon black production plants, chemical manufacturing that use chromite ore as the basic feedstock, flexible polyurethane foam manufacturing or fabrication facilities, lead acid battery manufacturing facilities, and wood preserving facilities.

Respondent's obligation to respond: Mandatory (40 CFR part 63, subparts LLLLLL, MMMMMM, NNNNNN, OOOOOO, PPPPPP, and QQQQQQ).

Estimated number of respondents: 956 (total).

Frequency of response: Initially, occasionally, and semiannually.

Estimated annual burden: 3,220 hours.

Estimated annual cost: $315,000, includes $0 annualized capital or O&M costs.

Changes in Estimates: There is no change in burden hours from the previous ICR.

(14) Docket ID Number: EPA-HQ-OECA-2013-0301; Title: NESHAP for Beryllium (40 CFR part 61, subpart C); EPA ICR Number 0193.12, OMB Control Number 2060-0092; Expiration Date: January 31, 2017.

Respondents: Facilities processing beryllium and its derivatives.

Respondent's obligation to respond: Mandatory (40 CFR part 61, subpart C).

Estimated number of respondents: 33 (total).

Frequency of response: Initially, occasionally, and monthly.

Estimated annual burden: 2,630 hours.

Estimated annual cost: $292,000, includes $35,000 annualized capital or O&M costs.

Changes in Estimates: There is no change in burden hours from the previous ICR.

(15) Docket ID Number: EPA-HQ-OECA-2013-0310; Title: NSPS for Sewage Sludge Treatment Plants (40 CFR part 60, subpart O); EPA ICR Number 1063.13, OMB Control Number 2060-0035; Expiration Date: January 31, 2017.

Respondents: Sewage sludge treatment plants.

Respondent's obligation to respond: Mandatory (40 CFR part 60, subpart O).

Estimated number of respondents: 112 (total).

Frequency of response: Initially, occasionally and semiannually.

Estimated annual burden: 12,500.

Estimated annual cost: $5,180,000, includes $3,960,000 annualized capital or O&M costs.

Changes in Estimates: There is an increase in burden due to expected construction of new facilities or modifications of existing facilities.

(16) Docket ID Number: EPA-HQ-OECA-2013-0314; Title: NSPS for Phosphate Rock Plants (40 CFR part 60, subpart NN); EPA ICR Number 1078.11, OMB Control Number 2060-0111; Expiration Date: January 31, 2017.

Respondents: Phosphate rock facilities that commenced construction or reconstruction after September 21, 1979.

Respondent's obligation to respond: Mandatory (40 CFR part 60, subpart NN).

Estimated number of respondents: 14 (total).

Frequency of response: Initially, occasionally and semiannually.

Estimated annual burden: 1,720 hours.

Estimated annual cost: $302,000, includes $133,000 annualized capital or O&M costs.

Changes in Estimates: There is an expected increase in burden due to an increase in the number of new or modified sources.

(17) Docket ID Number: EPA-HQ-OECA-2013-0329; Title: NSPS for Rubber Tire Manufacturing (40 CFR part 60, subpart BBB); EPA ICR Number 1158.12, OMB Control Number 2060-0156; Expiration Date: January 31, 2017.

Respondents: Rubber tire manufacturing plants that commenced construction or modification after January 20, 1983.

Respondent's obligation to respond: Mandatory (40 CFR part 60, subpart BBB).

Estimated number of respondents: 41 (total).

Frequency of response: Initially, occasionally, semiannually, and annually.

Estimated annual burden: 17,700 hours.

Estimated annual cost: $1,750,000, includes $16,400 annualized capital or O&M costs.

Changes in Estimates: There is no change in burden hours from the previous ICR.

(18) Docket ID Number: EPA-HQ-OECA-2013-0331; Title: NSPS for New Residential Wood Heaters (40 CFR part 60, subpart AAA); EPA ICR Number 1176.12, OMB Control Number 2060-0161; Expiration Date: January 31, 2017.

Respondents: Manufacturers, retailers, and certification laboratories of new residential wood heaters.

Respondent's obligation to respond: Mandatory (40 CFR part 60, subpart AAA).

Estimated number of respondents: 947 (total).

Frequency of response: Initially and occasionally.

Estimated annual burden: 11,700 hours.

Estimated annual cost: $2,890,000, includes $1,740,000 annualized capital or O&M costs.

Changes in Estimates: There is no change in burden hours from the previous ICR.

(19) Docket ID Number: EPA-HQ-OECA-2013-0342; Title: NESHAP for Lime Manufacturing (40 CFR part 63, subpart AAAAA); EPA ICR Number 2072.06, OMB Control Number 2060-0544; Expiration Date: January 31, 2017.

Respondents: Lime manufacturing plants.

Respondent's obligation to respond: Mandatory (40 CFR part 63, subpart AAAAA).

Estimated number of respondents: 65 (total).

Frequency of response: Initially, occasionally, and semiannually.

Estimated annual burden: 15,400 hours.

Estimated annual cost: $1,820,000, includes $312,000 annualized capital or O&M costs.

Changes in Estimates: There is an increase in burden hours from the previous ICR due to an expected increase in the number of respondents.

(20) Docket ID Number: EPA-HQ-OECA-2013-0302; Title: NSPS for Graphic Arts Industry (40 CFR part 60, subpart QQ); EPA ICR Number 0657.12, OMB Control Number 2060-0105; Expiration Date: February 28, 2017.

Respondents: Graphics arts facilities.

Respondent's obligation to respond: Mandatory (40 CFR part 60, subpart QQ).

Estimated number of respondents: 20 (total).

Frequency of response: Initially, occasionally and semiannually.

Estimated annual burden: 1,800 hours.

Estimated annual cost: $176,000, includes $0 annualized capital or O&M costs.

Changes in Estimates: There is an increase in burden hours from the previous ICR due to an expected increase in respondent universe.

(21) Docket ID Number: EPA-HQ-OECA-2013-0325; Title: NESHAP for Benzene Emission from Benzene Storage Vessels and Coke-By-Product Recovery Plants (40 CFR part 61, subparts L and Y); EPA ICR Number 1080.15, OMB Control Number 2060-0185; Expiration Date: March 31, 2017.

Respondents: Owners or operators of benzene storage vessels and coke by-product recovery plants.

Respondent's obligation to respond: Mandatory (40 CFR part 61, subparts L and Y).

Estimated number of respondents: 21 (total).

Frequency of response: Initially, occasionally, semiannually, and annually.

Estimated annual burden: 3,190 hours.

Estimated annual cost: $312,000, includes $0 annualized capital or O&M costs.

Changes in Estimates: There is no change in burden hours from the previous ICR.

(22) Docket ID Number: EPA-HQ-OECA-2013-0319; Title: NSPS for VOC Emissions from Petroleum Refinery Wastewater Systems (40 CFR part 60, subpart QQQ); EPA ICR Number 1136.12, OMB Control Number 2060-0172; Expiration Date: March 31, 2017.

Respondents: Petroleum refineries with wastewater systems.

Respondent's obligation to respond: Mandatory (40 CFR part 60, subpart QQQ).

Estimated number of respondents: 135 (total).

Frequency of response: Initially, occasionally, and semiannually.

Estimated annual burden: 9,240 hours.

Estimated annual cost: $922,000, includes $17,600 annualized capital or O&M costs.

Changes in Estimates: There is no change in burden hours from the previous ICR.

(23) Docket ID Number: EPA-HQ-OECA-2013-0353; Title: NSPS for Stationary Spark Ignition Internal Combustion Engines (40 CFR part 60, subpart JJJJ); EPA ICR Number 2227.05, OMB Control Number 2060-0610; Expiration Date: March 31, 2017.

Respondents: Stationary spark ignition internal combustion engines.

Respondent's obligation to respond: Mandatory (40 CFR part 60, subpart JJJJ).

Estimated number of respondents: 17,600 (total).

Frequency of response: Initially and annually.

Estimated annual burden: 23,300 hours.

Estimated annual cost: $4,640,000, includes $2,360,000 annualized capital or O&M costs.

Changes in Estimates: There is an expected increase in burden hours from the previous ICR due to growth in the respondent universe.

(24) Docket ID Number: EPA-HQ-OECA-2013-0321; Title: NSPS for Sewage Sludge Incinerators (40 CFR part 60, subpart LLLL); EPA ICR Number 2369.04, OMB Control Number 2060-0658; Expiration Date: March 31, 2017.

Respondents: New or modified sewage sludge incinerators.

Respondent's obligation to respond: Mandatory (40 CFR part 60, subpart LLLL).

Estimated number of respondents: 4 (total).

Frequency of response: Initially, occasionally, and annually.

Estimated annual burden: 798 hours.

Estimated annual cost: $448,000, includes $370,000 annualized capital or O&M costs.

Changes in Estimates: There is an expected increase in burden hours from the previous ICR due to growth in the respondent universe.

(25) Docket ID Number: EPA-HQ-OECA-2013-0317; Title: NESHAP for Gold Mine Ore Processing (40 CFR part 63, subpart EEEEEEE); EPA ICR Number 2383.04, OMB Control Number 2060-0659; Expiration Date: March 31, 2017.

Respondents: Gold mine ore processing and production facilities.

Respondent's obligation to respond: Mandatory (40 CFR part 63, subpart EEEEEEE).

Estimated number of respondents: 21 (total).

Frequency of response: Initially, occasionally, semiannually, and annually.

Estimated annual burden: 2,360 hours.

Estimated annual cost: $445,000, includes $227,000 annualized capital or O&M costs.

Changes in Estimates: There is no change in burden hours from the previous ICR.

(26) Docket ID Number: EPA-HQ-OECA-2016-0009; Title: NESHAP for Group IV Polymers and Resins (40 CFR part 63, subpart JJJ); EPA ICR Number 2457.03, OMB Control Number 2060-0682; Expiration Date: March 31, 2017.

Respondents: Thermoplastic resin production facilities.

Respondent's obligation to respond: Mandatory (40 CFR part 63, subpart JJJ).

Estimated number of respondents: 31 (total).

Frequency of response: Semiannually.

Estimated annual burden: 459 hours.

Estimated annual cost: $1,110,000, includes $542,000 annualized capital or O&M costs.

(27) Docket ID Number: EPA-HQ-OECA-2014-0063; Title: NESHAP for Polyether Polyols Production (40 CFR part 63, subpart PPP); EPA ICR Number 1811.10, OMB Control Number 2060-0415; Expiration Date: May 31, 2017.

Respondents: Polyether polyols production facilities.

Respondent's obligation to respond: Mandatory (40 CFR part 63, subpart PPP).

Estimated number of respondents: 23 (total).

Frequency of response: Occasionally and semiannually.

Estimated annual burden: 3,700 hours.

Estimated annual cost: $433,000, includes $226,000 annualized capital or O&M costs.

Changes in Estimates: There is no change in burden hours from the previous ICR.

(28) Docket ID Number: EPA-HQ-OECA-2013-0303; Title: NSPS for Equipment Leaks of VOC in Petroleum Refineries (40 CFR part 60, subparts GGG and GGGa); EPA ICR Number 0983.15, OMB Control Number 2060-0067; Expiration Date: June 30, 2017.

Respondents: Petroleum refineries.

Respondent's obligation to respond: Mandatory (40 CFR part 60, subparts GGG and GGGa).

Estimated number of respondents: 130 (total).

Frequency of response: Initially, occasionally, and semiannually.

Estimated annual burden: 24,900 hours.

Estimated annual cost: $2,430,000, includes $0 annualized capital or O&M costs.

Changes in Estimates: There is no change in burden hours from the previous ICR.

(29) Docket ID Number: EPA-HQ-OECA-2013-0350; Title: The Consolidated Air Rule (CAR) for the Synthetic Organic Chemical Manufacturing Industry (SOCMI); EPA ICR Number 1854.10, OMB Control Number 2060-0443; Expiration Date: June 30, 2017.

Respondents: Synthetic organic chemical manufacturing facilities.

Respondent's obligation to respond: Mandatory (40 CFR part 65).

Estimated number of respondents: 4,620 (total).

Frequency of response: Initially, occasionally, semiannually and annually.

Estimated annual burden: 2,130,000 hours.

Estimated annual cost: $309,000,000, includes $101,000,000 annualized capital or O&M costs.

Changes in Estimates: There is an expected increase in burden hours from the previous ICR due to growth in the respondent universe.

(30) Docket ID Number: EPA-HQ-OECA-2013-0315; Title: NSPS for Commercial and Industrial Solid Waste Incineration (CISWI) Units (40 CFR part 60, subpart CCCC); EPA ICR Number 2384.04, OMB Control Number 2060-0662; Expiration Date: June 30, 2017.

Respondents: Commercial and industrial solid waste incineration units.

Respondent's obligation to respond: Mandatory (40 CFR part 60, subpart CCCC).

Estimated number of respondents: 4 (total).

Frequency of response: Initially, occasionally, semiannually, and annually.

Estimated annual burden: 1,040 hours.

Estimated annual cost: $451,000, includes $350,000 annualized capital or O&M costs.

Changes in Estimates: There is an expected increase in burden hours from the previous ICR due to growth in the respondent universe.

(31) Docket ID Number: EPA-HQ-OECA-2014-0034; Title: NSPS for Kraft Pulp Mills (40 CFR part 60, subpart BB); EPA ICR Number 2485.03, OMB Control Number 2060-0690; Expiration Date: June 30, 2017.

Respondents: Kraft pulp mills.

Respondent's obligation to respond: Mandatory (40 CFR part 60, subpart BB).

Estimated number of respondents: 4 (total).

Frequency of response: Initially, occasionally, and semiannually.

Estimated annual burden: 1,910 hours.

Estimated annual cost: $753,000, includes $567,000 annualized capital or O&M costs.

Changes in Estimates: There is an expected increase in burden hours from the previous ICR due to growth in the respondent universe.

(32) Docket ID Number: EPA-HQ-OECA-2013-0316; Title: NSPS for Onshore Natural Gas Processing Plants (40 CFR part 60, subparts KKK and LLL); EPA ICR Number 1086.12, OMB Control Number 2060-0120; Expiration Date: August 31, 2017.

Respondents: Onshore natural gas processing plants.

Respondent's obligation to respond: Mandatory (40 CFR part 60, subparts KKK and LLL).

Estimated number of respondents: 577 (total).

Frequency of response: Initially, occasionally, and semiannually.

Estimated annual burden: 122,000 hours.

Estimated annual cost: $12,000,000, includes $68,400 annualized capital or O&M costs.

Changes in Estimates: There is no change in burden hours from the previous ICR.

Dated: April 18, 2016.
Edward J. Messina,
Director, Monitoring, Assistance and Media Programs Division.

[FR Doc. 2016-10393 Filed 5-2-16; 8:45 am]

BILLING CODE 6560-50-P